DEPARTMENT OF TRANSPORTATION

Federal Aviation Administration

14 CFR Part 11

[Docket No. FAA-199-6622; Amendment No. 11-55]

RIN 2120-AG95

Clarification for Submitting Petitions for Rulemaking or Exemption

AGENCY: Federal Aviation Administration, DOT.

ACTION: Final rule; technical amendment.

SUMMARY: The Federal Aviation Administration (FAA) is making minor technical changes to the requirements for submitting a petition for rulemaking or exemption. In a final rule published in the Federal Register on December 5, 2007, the FAA inadvertently did not make conforming amendments to plain language requirements in the structure and content of the final rule. This technical amendment restructures or reorders the filing of petitions and incorporates a reference for additional filing guidance and instructions using the Federal Docket Management System (FDMS). These changes ensure general rulemaking procedures are clear, written in plain language, and better inform the public of administrative practices.

DATES: Effective Dates: This rule is effective January 5, 2009.

FOR FURTHER INFORMATION CONTACT: Katrina Holiday, Office of Rulemaking, ARM-202, Federal Aviation Administration, 800 Independence Avenue, SW., Washington, DC 20591; telephone: (202-267-9680); facsimile: (202-267-5075); e-mail: katrina.holiday@faa.gov.

SUPPLEMENTARY INFORMATION: The FAA published in the Federal Register on December 5, 2007 (72 FR 68474) a document that amended the regulations for submitting petitions for rulemaking or exemption. This technical amendment—

(1) Incorporates a reference to available guidance and instructions that may ease the use of FDMS. This guidance is accessible via the Internet at http://www.regulations.gov, and additional instructions for petitions for rulemaking or exemption are also accessible via the Internet at http://www.faa.gov/regulations.

(2) Amends 14 CFR 11.63(a) and (b) by reordering these paragraphs by order of importance to address in paragraph (a) general submissions of petitions for rulemaking or exemption, and paragraph (b) specific petitions for rulemaking or exemption for relief from part 139 of this chapter.

Because these actions are merely administrative in nature, the FAA finds that notice and public procedure under 5 U.S.C. 553(b) is unnecessary. For the same reason, the FAA finds that good cause exists under 5 U.S.C. 553(d) for making this amendment effective upon publication.

List of Subjects in 14 CFR Part 11

Administrative practice and procedure, Reporting and recordkeeping requirements.

Accordingly, Title 14 of the Code of Federal Regulations (CFR) part 11 is amended as follows:

The Amendments

PART 11—GENERAL RULEMAKING PROCEDURES

1. The authority citation for part 11 continues to read as follows:

Authority: 49 U.S.C. 106(g), 40113, 44701.

2. Revise § 11.63(a), (b), and (c) to read as follows:

§ 11.63 How and to whom do I submit my petition for rulemaking or petition for exemption?

(a) To submit a petition for rulemaking or exemption—

(1) By electronic submission, submit your petition for rulemaking or exemption to FAA through the Internet at http://www.regulations.gov, the Federal Docket Management System Web site. For additional instructions, you may visit http://www.faa.gov/regulations.

(2) By paper submission, send the original signed copy of your petition for rulemaking or exemption to this address: U.S. Department of Transportation, Docket Operations, West Building Ground Floor, Room W12-140, 1200 New Jersey Avenue, SE., Washington, DC 20590.

(b) Submit a petition for rulemaking or exemption from part 139 of this chapter—

(1) To the appropriate FAA airport field office in whose area your airport is, or will be, established; and

(2) To the U.S. Department of Transportation, Docket Operations, West Building Ground Floor, Room W12-140, 1200 New Jersey Avenue, SE., Washington, DC 20590 or by electronic submission to this Internet address: http://www.regulations.gov.

(c) The FAA may designate other means by which you can submit petitions in the future.

* * * * *

Issued in Washington, DC on December 30, 2008.
Pamela Hamilton-Powell,
Director, Office of Rulemaking.

[FR Doc. E8-31304 Filed 1-2-09; 8:45 am]

BILLING CODE 4910-13-P